NUCLEAR REGULATORY COMMISSION

Staff Responses to Frequently Asked Questions Concerning Decommissioning of Nuclear Power Plants, Availability of NUREG

AGENCY: Nuclear Regulatory Commission.

ACTION: Notice of availability.

SUMMARY: The Nuclear Regulatory Commission is announcing the completion and availability of NUREG-1628, “Staff Responses to Frequently Asked Questions Concerning Decommissioning Of Nuclear Power Plants,” a final report dated June 2000.

ADDRESSES: A single copy of NUREG-1628 is available free upon written request to the Office of the Chief Information Officer, Reproduction and Distribution Services Section, U. S. Nuclear Regulatory Commission, Washington, DC 20555-0001, or by faxing a request to 301-415-2289, or by e-mail to DISTRIBUTION@nrc.gov. Multiple copies may be purchased from the Superintendent of Documents, U.S. Government Printing Office, P.O. Box 37082, Washington, DC 20402-9328; www.access.gpo.gov/su—docs; 202-512-1800 or The National Technical Information Service, Springfield, Virginia 22161-0002; www.ntis.gov; 1-800-553-6847 or, locally, 703-605-6000.

A copy of the document is also available for inspection and/or copying for a fee in the NRC Public Document Room, 2120 L Street NW, (lower level), Washington, DC. You may also electronically access NUREG-series publications and other NRC records at NRC's Public Electronic Reading Room at www.nrc.gov/NRC/ADAMS/index.html.

This publication is also posted at NRC's Web site address http://www.nrc.gov/NRC/NUREGS/SR1628/index.html

FOR FURTHER INFORMATION CONTACT: John L. Minns, Division of Licensing Project Management, Washington, DC 20555-0001 (telephone 301-415-3166).

SUPPLEMENTARY INFORMATION: This report, through a question-and-answer format, provides NRC staff responses to frequently asked questions on the decommissioning of commercial power reactors. The document was prepared in response to the increase in the number of power reactors in the decommissioning process and significant changes in the regulations since 1996. The staff realized that there was a general lack of public understanding of the decommissioning process and the risks associated with decommissioning. The document was developed to assist the public in understanding the decommissioning process for commercial nuclear power plants. A draft of this report was issued for comment in April 1998. The June 2000 Final Report incorporates the comments received on the draft and updates responses to questions with current information. The staff also included additional questions and answers from the public meeting transcripts and written correspondence to members of the public. The report contains a definition of decommissioning and a discussion of decommissioning alternatives. It also provides a focus on decommissioning experiences in the United States and how the NRC regulates the decommissioning process. Questions on spent fuel, low-level waste, and transportation related to decommissioning are answered. Questions on socioeconomics, partial site releases, independent spent fuel storage installation (ISFSI), license termination, the ultimate disposition of the facility, fiances for completing decommissioning, and hazards associated with decommissioning are also addressed. This document also provides responses to questions related to public involvement in decommissioning as well as providing the public with sources for obtaining additional information on decommissioning.

Dated at Rockville, Maryland, this 5th day of July 2000.
For the Nuclear Regulatory Commission.
Michael T. Masnik,
Chief, Decommissioning Section, Project Directorate IV & Decommissioning, Division of Licensing Project Management, Office of Nuclear Reactor Regulation.

[FR Doc. 00-17465 Filed 7-10-00; 8:45 am]

BILLING CODE 7590-01-P